DEPARTMENT OF TRANSPORTATION

Federal Railroad Administration

Petition for Designation of Repair Locations

In accordance with Part 232 of Title 49 Code of Federal Regulations (CFR), notice is hereby given that the Federal Railroad Administration (FRA) received a request for designating repair locations as prescribed in § 232.15 (g).

The Canadian Pacific Railway Company

[Docket Number FRA-2002-13651]

Pursuant to 49 CFR 232.17, the Canadian Pacific Railway Company (CP), on behalf of their Soo Line Railroad Subsidiary, seeks FRA's approval to designate locations on their Soo Line property where brake system repairs will be performed, as prescribed in § 232.15(g) of the Federal Regulations, Brake System Safety Standards for Freight and Other Non-Passenger Trains and Equipment. CP has identified the following sites as the designated repair locations:

Location | Milepost/ Subdivision | Distance | Facility
St. Paul Service Area
Harvey, ND | MP 396.5, Portal Sub | 152.5 mi from Portal | Repair track.
Enderlin, ND | MP 257.3, Carrington Sub | 139.2 mi. from Harvey | Road truck.
Thief River Falls, MN | MP 307.4, Detroit Lakes Sub | 79.1 mi. from Noyes | Road truck.
Glenwood, MN | MP 120.3, Elbow Lake Sub | 137.1 mi. from Enderlin | Road truck.
St. Paul Yard, MN | MP 0, Merriam Park Sub | 127.5 mi. froM Glenwood | Repair track.
Chicago Service Area
Lacrosse, WI | MP 281.2, Tomah Sub | 130.6 mi. from St. Paul | Road truck.
Portage, WI | MP 178.2, Tomah Sub | 103 mi. from Lacrosse | Road truck.
Milwaukee, WI | MP 85.4, Watertown Sub | 92.8 mi. from Portage | Repair track.
Bensenville, IL | MP 15.5, Elgin Sub | 104.8 mi. from Milwaukee | Repair track
Latta, IN | MP 204.2, Latta Sub | 131.7 mi. from Louisville | Road truck.

CP states that all repair track locations will have full-time qualified car men on duty and these locations will be equipped with yard air plants, jacking pads and single car test devices. They may not be enclosed repair shops. All road truck locations are serviced regularly by qualified car men with fully equipped repair trucks that include compressors, jacks, and single car test devices. These locations may or may not have jacking pads. All of the above locations have tracks that are readily and safely accessible for the car men to make repairs. All locations are commonly serviced by through trains, reducing the need for additional switching and the related hazards. All locations can make repairs to most part 215, 231 and 232 defects to include performing single car air tests. All road truck locations are in reasonable proximity to their home base, which will accommodate the availability of material, effective and timely repair, and accessibility in adverse weather conditions. Furthermore, designating the above locations as the repair locations will not diminish CP's ability to effect emergency repairs at other locations, where cars cannot be safely moved to a designated location, including, but not limited to, cars set off as a result of wayside inspections and trackside warning detectors.

Pursuant to 49 CFR 232.17, CP affirms that a copy of their petition to designate the above locations as their repair locations has been provided to the following labor organizations that represent the employees working for the CP: Brotherhood of Railway Carmen, Brotherhood of Locomotive Engineers and the United Transportation Union.

Interested parties are invited to submit written comments to FRA. All written communications concerning this petition should identify the appropriate docket number (e.g., Docket Number FRA-2002-13651) and must be submitted to the Docket Clerk, DOT Docket Management Facility, Room PL-401 (Plaza Level), 400 7th Street, SW., Washington, DC 20590. Comments received within 30 days of the date of this notice will be considered by FRA before any final action is taken. Although FRA does not anticipate scheduling a public hearing in connection with these proceedings, if any interested party desires an opportunity for oral comment, they should notify FRA in writing before the end of the comment period and specify the basis for their request. All written communications concerning these proceedings are available for examination during regular business hours (9 a.m.—5 p.m.).

All documents in the public docket are also available for inspection and copying on the Internet at the docket facility's Web site http://dms.dot.gov . Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) at http://dms.dot.gov.

Issued in Washington, DC on June 24, 2003.
Grady C. Cothen, Jr.,
Deputy Associate Administrator for Safety Standards and Program Development.

[FR Doc. 03-16557 Filed 6-30-03; 8:45 am]

BILLING CODE 4910-06-P